NUCLEAR REGULATORY COMMISSION

[NRC-2010-0336]

Biweekly Notice; Applications and Amendments to Facility Operating Licenses Involving No Significant Hazards Considerations

I. Background

Pursuant to section 189a. (2) of the Atomic Energy Act of 1954, as amended (the Act), the U.S. Nuclear Regulatory Commission (the Commission or NRC) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from October 7, 2010 to October 20, 2010. The last biweekly notice was published on October 19, 2010 (75 FR 64359).

Notice of Consideration of Issuance of Amendments to Facility Operating Licenses, Proposed No Significant Hazards Consideration Determination, and Opportunity for a Hearing

The Commission has made a proposed determination that the following amendment requests involve no significant hazards consideration. Under the Commission's regulations in Title 10 of the Code of Federal Regulations (10 CFR), § 50.92, this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rules, Announcements and Directives Branch (RADB), TWB-05-B01M, Division of Administrative Services, Office of Administration, U.S. Nuclear Regulatory Commission, Washington, DC 20555-0001, and should cite the publication date and page number of this Federal Register notice. Written comments may also be faxed to the RADB at 301-492-3446. Documents may be examined, and/or copied for a fee, at the NRC's Public Document Room (PDR), located at One White Flint North, Public File Area O1F21, 11555 Rockville Pike (first floor), Rockville, Maryland.

Within 60 days after the date of publication of this notice, any person(s) whose interest may be affected by this action may file a request for a hearing and a petition to intervene with respect to issuance of the amendment to the subject facility operating license. Requests for a hearing and a petition for leave to intervene shall be filed in accordance with the Commission's “Rules of Practice for Domestic Licensing Proceedings” in 10 CFR Part 2. Interested person(s) should consult a current copy of 10 CFR 2.309, which is available at the Commission's PDR, located at One White Flint North, Public File Area O1F21, 11555 Rockville Pike (first floor), Rockville, Maryland. Publicly available records will be accessible from the Agencywide Documents Access and Management System's (ADAMS) Public Electronic Reading Room on the Internet at the NRC Web site, http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, any hearing held would take place before the issuance of any amendment.

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule (72 FR 49139, August 28, 2007). The E-Filing process requires participants to submit and serve all adjudicatory documents over the internet, or in some cases to mail copies on electronic storage media. Participants may not submit paper copies of their filings unless they seek an exemption in accordance with the procedures described below.

To comply with the procedural requirements of E-Filing, at least ten (10) days prior to the filing deadline, the participant should contact the Office of the Secretary by e-mail at hearing.docket@nrc.gov, or by telephone at (301) 415-1677, to request (1) a digital ID certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on NRC's public Web site at http://www.nrc.gov/site-help/e-submittals/apply-certificates.html. System requirements for accessing the E-Submittal server are detailed in NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through EIE, users will be required to install a Web browser plug-in from the NRC Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an e-mail notice confirming receipt of the document. The E-Filing system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC Web site at http://www.nrc.gov/site-help/e-submittals.html, by e-mail at MSHD.Resource@nrc.gov, or by a toll-free call at (866) 672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in NRC's electronic hearing docket which is available to the public at http://ehd.nrc.gov/EHD_Proceeding/home.asp, unless excluded pursuant to an order of the Commission, or the presiding officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submission.

Petitions for leave to intervene must be filed no later than 60 days from the date of publication of this notice. Non-timely filings will not be entertained absent a determination by the presiding officer that the petition or request should be granted or the contentions should be admitted, based on a balancing of the factors specified in 10 CFR 2.309(c)(1)(i)-(viii).

For further details with respect to this license amendment application, see the application for amendment which is available for public inspection at the Commission's PDR, located at One White Flint North, Public File Area O1F21, 11555 Rockville Pike (first floor), Rockville, Maryland. Publicly available records will be accessible from the ADAMS Public Electronic Reading Room on the Internet at the NRC Web site, http://www.nrc.gov/reading-rm/adams.html. Persons who do not have access to ADAMS or who encounter problems in accessing the documents located in ADAMS, should contact the NRC PDR Reference staff at 1-800-397-4209, 301-415-4737, or by e-mail to pdr.resource@nrc.gov.

Entergy Operations, Inc., Docket No. 50-313, Arkansas Nuclear One, Unit No. 1 (ANO-1), Pope County, Arkansas

Date of amendment request: August 24, 2010.

Description of amendment request: The proposed amendment would revise Technical Specifications (TSs) 3.4.6, “RCS Loops—Mode 4,” TS 3.4.7, “RCS Loops—Mode 5, Loops Filled,” TS 3.4.8, “RCS Loops—Mode 5, Loops Not Filled,” and TS 3.9.5, “Decay Heat Removal (DHR) and Coolant Circulation—Low Water Level,” to permit a greater time period for one of two required Reactor Coolant System (RCS) cooling loops (commonly known as Decay Heat Removal loop) cooling loops to be inoperable. The affected TSs are applicable in lower Modes of Operation (Modes 4, 5, and 6).

Basis for proposed no significant hazards consideration determination: As required by 10 CFR 50.91(a), the licensee has provided its analysis of the issue of no significant hazards consideration, which is presented below:

1. Does the proposed change involve a significant increase in the probability or consequences of an accident previously evaluated?

Response: No.

The proposed change does not involve any physical change to the plant and is unrelated to accident initiators. In Mode 4, the energy contained in the RCS is significantly reduced from that of power operations. In addition, RCS pressure can be raised or lowered to accommodate forced circulation using Reactor Coolant Pumps (RCPs) or operation of the Decay Heat Removal (DHR) system. Natural circulation also provides a core heat removal method via any available Steam Generator (SG). Several sources of secondary feedwater are, or could be made available to a required SG in support of forced circulation or natural circulation. Based on this information, any mitigation strategy which assumes use of these core cooling methods is not significantly affected by the proposed increase in the time in which one required train may be inoperable.

No accidents associated with the reactor core or core cooling are postulated for Mode 5. In Mode 6, the fuel handling accident (FHA) is the only postulated accident scenario. The proposed change has no bearing on the FHA from either an initiation aspect or with regard to accident consequences.

Based on the above, the proposed change does not involve a significant increase in the probability or consequences of an accident previously evaluated.

2. Does the proposed change create the possibility of a new or different kind of accident from any accident previously evaluated?

Response: No.

The proposed change only extends the period in which one of two required core heat removal methods may be unavailable. The proposed change involves no changes to the physical plant and is not associated with any accident initiator.

Based on the above, the proposed change does not create the possibility of a new or different kind of accident from any previously evaluated.

3. Does the proposed change involve a significant reduction in a margin of safety?

Response: No.

As discussed above, the proposed change is unrelated to accident initiators and does not have a significant impact on the consequences of any accident previously evaluated in the ANO-1 Safety Analysis Report (SAR). The proposed change extends the time in which one of two required core heat removal methods may be unavailable. In most cases, more than one additional cooling method remains available. In addition, proceduralized administrative controls act to protect remaining required equipment (including inventory makeup sources) and to prevent removal of important equipment from service during higher risk plant configurations (such as reduced inventory conditions).

In Mode 5 and 6, the idle cooling loop may only be made unavailable in support of surveillance testing and only if the remaining loop is operable and in operation. Additionally, the idle cooling loop can be made unavailable only if it can be recovered within the calculated time-to-boil for the most restrictive plant configuration that may exist during the test window. These restrictions, along with the information in the preceding paragraph, maintain a sufficient margin to safety to preclude a challenge to the integrity of the fuel clad.

Therefore, the proposed change does not involve a significant reduction in the margin to safety.

The NRC staff has reviewed the licensee's analysis and, based on this review, it appears that the three standards of 10 CFR 50.92(c) are satisfied. Therefore, the NRC staff proposes to determine that the amendment request involves no significant hazards consideration.

Attorney for licensee: Joseph A. Aluise, Associate General Counsel—Nuclear, Entergy Services, Inc., 639 Loyola Avenue, New Orleans, Louisiana 70113.

NRC Branch Chief: Michael T. Markley.

Exelon Generation Company, LLC, Docket Nos. 50-352 and 50-353, Limerick Generating Station (LGS), Units 1 and 2, Montgomery County, Pennsylvania

Date of amendment request: August 31, 2010.

Description of amendment request: The proposed amendment involves administrative changes to the Technical Specifications (TSs). The proposed changes involve: (1) Making an editorial change to LGS Unit 1 TS Limiting Condition for Operation (LCO) 3.3.1, Action b; (2) making an editorial change to LGS Units 1 and 2 TS Table 3.3.1-1, Actions 2 and 9; (3) making the layout and format of LGS Unit 1 TS LCO 3.6.5.3 Action requirements consistent with the LGS Unit 2 LCO Action requirements for the same TS; and (4) adding a reference to the minimum required number of operable main turbine bypass valves and the turbine bypass system response time to the core operating limits documented in the Core Operating Limits Report as specified in LGS, Units 1 and 2, TS 6.9.1.9.

Basis for proposed no significant hazards consideration determination: As required by 10 CFR 50.91(a), the licensee (Exelon) has provided its analysis of the issue of no significant hazards consideration, which is presented below:

1. Do the proposed changes involve a significant increase in the probability or consequences of an accident previously evaluated?

Response: No. The proposed changes are administrative in nature and do not impact the physical configuration or function of plant structures, systems, or components (SSCs) or the manner in which SSCs are operated, maintained, modified, tested, or inspected. The proposed changes do not impact the initiators or assumptions of analyzed events, nor do they impact mitigation of accidents or transient events.

Therefore, the proposed changes do not involve a significant increase in the probability or consequences of an accident previously evaluated.

2. Do the proposed changes create the possibility of a new or different kind of accident from any accident previously evaluated?

Response: No. The proposed changes are administrative in nature and do not alter plant configuration, require that new plant equipment be installed, alter assumptions made about accidents previously evaluated, or impact the function of plant SSCs or the manner in which SSCs are operated, maintained, modified, tested, or inspected.

Therefore, the proposed changes do not create the possibility of a new or different kind of accident from any accident previously evaluated.

3. Do the proposed changes involve a significant reduction in a margin of safety?

Response: No. The proposed changes are administrative in nature and do not involve any physical changes to plant SSCs or the manner in which SSCs are operated, maintained, modified, tested, or inspected. The proposed changes do not involve a change to any safety limits, limiting safety system settings, limiting conditions for operation, or design parameters for any SSC. The proposed changes do not impact any safety analysis assumptions and do not involve a change in initial conditions, system response times, or other parameters affecting an accident analysis.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: J. Bradley Fewell, Esquire, Associate General Counsel, Exelon Generation Company, LLC, 4300 Winfield Road, Warrenville, IL 60555.

NRC Branch Chief: Harold K. Chernoff.

Exelon Generation Company, LLC, Docket No. 50-219, Oyster Creek Nuclear Generating Station, Ocean County, New Jersey

Date of amendment request: June 11, 2010.

Description of amendment request: The amendment would revise the Oyster Creek Nuclear Generating Station Technical Specifications (TSs), Appendix B. Specifically, the proposed amendment would change some wording to align with the Exelon Generation Company (EGC) terminology. Additionally, the proposed amendment would revise the description of the review and audit function to align with the EGC fleet model and relocate scope of the audit to the EGC fleet-wide Quality Assurance Topical Report.

Basis for proposed no significant hazards consideration determination: As required by 10 CFR 50.91(a), the licensee has provided its analysis of the issue of no significant hazards consideration, which is presented below:

1. [The proposed changes do not involve a significant increase in the probability or consequences of an accident previously evaluated.]

Response: No.

The Environmental Technical Specifications (ETS) are concerned with monitoring the effect that plant operations have on the environment for the purpose of protecting the environment and have no [effect] on any accident postulated in the Updated Final Safety Analysis Report (UFSAR). Accident probabilities or consequences are not affected in any way by the environmental monitoring and reporting required by the ETS. The revision of portions of Appendix B of the Renewed Facility Operating License (FOL) will not impact the design or operation of any plant system or component. No environmental protection requirements established by other Federal, State, or local agencies are being reduced by this license amendment request.

No physical changes to Oyster Creek Nuclear Generating Station (OCNGS) will occur as a result of this proposed amendment. The proposed changes will not alter the physical design or operational procedures associated with any plant structure, system, or component.

The proposed changes involve the revision/relocation of administrative requirements from the Environmental Technical Specifications (ETS) that are now controlled under the EGC Quality Assurance Topical Report (QATR). The Technical Specification (TS) requirements involve Organization and Audit and Review.

Therefore, the proposed changes do not involve a significant increase in the probability or consequences of an accident previously evaluated.

2. [The proposed changes do not create the possibility of a new or different kind of accident from any previously evaluated.]

Response: No.

Environmental monitoring and reporting have no effect on accident initiation. The revision of portions of Appendix B of the OCNGS TS[s] will not impact the design or operation of any plant system or component. There will be no effect on the types or amount of any effluents released from the plant.

The proposed changes do not alter the physical design, safety limits, or safety analysis assumptions associated with the operation of the plant. Accordingly, the changes do not introduce any new accident initiators, nor do they reduce or adversely [effect] the capabilities of any plant structure, system, or component to perform their safety function.

Therefore, the proposed changes do not create the possibility of a new or different kind of accident from any accident previously evaluated.

3. [The proposed changes do not involve a significant reduction in the margin of safety.]

Response: No.

Revision of the ETS Organization and Audit and Review criteria in accordance with this submittal has no impact on margin of safety. Environmental evaluations will still be performed, when necessary, on changes to plant design or operations to assess the effect on environmental protection. Review, analysis and investigation of Unusual and Important Environmental Events will still be performed in accordance with the EGC Corrective Action Program.

The proposed changes conform to NRC regulatory guidance regarding the content of plant [TSs]. The guidance is presented in 10 CFR 50.36 and NUREG-1433. The revision of these administrative requirements will not reduce the quality assurance commitments as accepted by the NRC, nor reduce administrative controls essential to the safe operation of the plant. Future changes to these administrative requirements will be performed in accordance with NRC regulation 10 CFR 50.54(a), consistent with the guidance identified above.

Therefore, the proposed changes do not involve a significant reduction in a margin of safety.

The NRC staff has reviewed the licensee's analysis and, based on this review, and with the changes noted above in square brackets, it appears that the three standards of 10 CFR 50.92(c) are satisfied. Therefore, the NRC staff proposes to determine that the amendment request involves no significant hazards consideration.

Attorney for licensee: Mr. J. Bradley Fewell, Associate General Counsel, Exelon Generation Company LLC, 4300 Winfield Road, Warrenville, IL 60555.

NRC Branch Chief: Harold Chernoff.

NextEra Energy Seabrook, LLC Docket No. 50-443, Seabrook Station, Unit No. 1, Rockingham County, New Hampshire

Date of amendment request: June 28, 2010.

Description of amendment request: The proposed change would delete the Seabrook Technical Specification 3.8.4.2, “Containment Penetration Conductor Overcurrent Protective Devices and Protective Devices for Class 1E Power Sources Connected to Non-Class 1E Circuits.” The requirements would be relocated to a licensee-controlled document, the Technical Requirements Manual (TRM).

Basis for proposed NSHC determination: As required by 10 CFR 50.91(a), the licensee has provided its analysis of the issue of NSHC, which is presented below:

1. The proposed change does not involve a significant increase in the probability or consequences of an accident previously evaluated.

The proposed change does not impact the physical function of plant structures, systems, or components (SSCs) or the manner in which SSCs perform their design function. The proposed change neither adversely affects accident initiators or precursors, nor alters design assumptions. The proposed change does not alter or prevent the ability of operable SSCs to perform their intended function to mitigate the consequences of an initiating event within assumed acceptance limits.

This proposed change relocates the requirements for the containment penetration conductor overcurrent protective devices and the protective devices for Class 1E power sources connected to non-Class 1E circuits to the TRM. Relocating these requirements will have no adverse effect on plant operation, the availability or operation of any accident mitigation equipment, or plant response to a design basis accident. The electrical protective devices are not accident initiators. Whether the requirements for penetration protective devices for 1E power sources are contained in the TS or the TRM has no effect on the probability or consequences of any accident previously evaluated.

Therefore, the proposed change does not involve a significant increase in the probability or consequences of an accident previously evaluated.

2. The proposed change does not create the possibility of a new or different kind of accident from any accident previously evaluated.

The proposed change will not impact the accident analysis. The change does not involve a physical alteration of the plant (i.e., no new or different type of equipment will be installed), a significant change in the method of plant operation, or new operator actions. The proposed change will not introduce failure modes that could result in a new accident. The change does not alter assumptions made in the safety analysis.

Therefore, the proposed change does not create the possibility of a new or different kind of accident from any accident previously evaluated.

3. The proposed change does not involve a significant reduction in a margin of safety.

Margin of safety is associated with confidence in the ability of the fission product barriers (i.e., fuel cladding, reactor coolant system pressure boundary, and containment structure) to limit the level of radiation dose to the public. The proposed change does not involve a significant change in the method of plant operation, and no accident analyses will be affected by the proposed changes. Additionally, the proposed changes will not relax any criteria used to establish safety limits and will not relax any safety system settings. The safety analysis acceptance criteria are not affected by this change. The proposed change will not result in plant operation in a configuration outside the design basis. The proposed change does not adversely affect systems that respond to safely shutdown the plant and to maintain the plant in a safe shutdown condition.

Therefore, these proposed changes do not involve a significant reduction in a margin of safety.

The NRC staff has reviewed the licensee's analysis and, based on this review, it appears that the three standards of 50.92(c) are satisfied. Therefore, the NRC staff proposes to determine that the amendment request involves NSHC.

Attorney for licensee: M.S. Ross, Florida Power & Light Company, P.O. Box 14000, Juno Beach, FL 33408-0420.

NRC Branch Chief: Harold K. Chernoff.

Northern States Power Company—Minnesota, Docket No. 50-263, Monticello Nuclear Generating Plant (MNGP), Wright County, Minnesota

Date of amendment request: September 17, 2010.

Description of amendment request: The licensee proposed to amend the MNGP Technical Specifications, revising the values for the Minimum Critical Power Ratio (MCPR) safety limits of Reactor Core Safety Limit 2.1.1.2. Currently this specification says “MCPR shall be ≥1.10 for two recirculation loop operation or ≥1.12 for single recirculation loop operation.” The proposed amendment will change this specification to read “MCPR shall be ≥1.15 for two recirculation loop operation or ≥1.15 for single recirculation loop operation.” The basis of the MCPR safety limit is to ensure that during normal operation and during abnormal operational transients, at least 99.9 percent of all fuel rods in the core do not experience transition boiling if the limit is not violated. The licensee's proposed MCPR safety limit values, when approved by the NRC staff, will preserve the existing margin to transition boiling, thus ensuring that the probability of fuel damage will not be increased.

Basis for proposed no significant hazards consideration determination: As required by 10 CFR 50.91(a), the licensee has provided its analysis of the issue of no significant hazards consideration (NSHC) analysis. The NRC staff reviewed the licensee's NSHC analysis and has prepared its own as follows:

(1) Does the proposed amendment involve a significant increase in the probability or consequences of an accident previously evaluated?

Response: No.

The purpose of the MCPR safety limits is to ensure that at least 99.9 percent of all fuel rods in the core do not experience transition boiling if the limit is not violated. Of the postulated accidents and transients previously analyzed in the MNGP Updated Safety Analysis Report, none of them were postulated to be initiated by operation within the approved MCPR safety limits. Furthermore, the consequences of the analyzed accidents were not postulated to be exacerbated by operation within approved MCPR safety limits. Accordingly, the probability of occurrence and the consequences of the previously analyzed accidents would not be affected in any way by the proposed amendment to the TS.

(2) Does the proposed amendment create the possibility of a new or different kind of accident from any accident previously evaluated?

Response: No.

The proposed amendment does not involve any physical alteration of the plant (no new or different type of equipment will be installed) nor does it change methods and procedures governing plant operation. The proposed amendment will not impose any new or eliminate any old requirements. Therefore, the proposed amendment does not create the possibility of a new or different kind of accident from any previously evaluated.

(3) Does the proposed amendment involve a significant reduction in a margin of safety?

Response: No.

The proposed amendment will not have any effect on previously used safety analysis methods, scenarios, acceptance criteria, or assumptions. Therefore, the proposed amendment does not involve a significant reduction in a margin of safety.

The NRC staff has reviewed the licensee's analysis and, based on this review, it appears that the three standards of 10 CFR 50.92(c) are satisfied. Therefore, the NRC staff proposes to determine that the proposed amendment involves no significant hazards consideration.

Attorney for the licensee: Peter M. Glass, Assistant General Counsel, Xcel Energy Services, Inc., 414 Nicollet Mall, Minneapolis, MN 55401

NRC Branch Chief: Robert J. Pascarelli.

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

Notice of Consideration of Issuance of Amendment to Facility Operating License, Proposed No Significant Hazards Consideration Determination, and Opportunity for A Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the Commission's Public Document Room (PDR), located at One White Flint North, Public File Area 01F21, 11555 Rockville Pike (first floor), Rockville, Maryland. Publicly available records will be accessible from the Agencywide Documents Access and Management System (ADAMS) Public Electronic Reading Room on the internet at the NRC Web site, http://www.nrc.gov/reading-rm/adams.html. If you do not have access to ADAMS or if there are problems in accessing the documents located in ADAMS, contact the PDR Reference staff at 1 (800) 397-4209, (301) 415-4737 or by e-mail to pdr.resource@nrc.gov.

Entergy Nuclear Vermont Yankee, LLC and Entergy Nuclear Operations, Inc., Docket No. 50-271, Vermont Yankee Nuclear Power Station, Vernon, Vermont

Date of amendment request: December 3, 2009.

Description of amendment request: This amendment request revises Technical Specifications to incorporate Standard Technical Specification 3.1.8 “Scram Discharge Volume (SDV) Vent and Drain Valves” and associated Bases of NUREG-1433, Revision 3, “Standard Technical Specifications General Electric Plants, BWR/4,” modified to account for plant specific design details.

Date of Issuance: October 6, 2010.

Effective date: As of the date of issuance, and shall be implemented within 60 days.

Amendment No.: 244.

Facility Operating License No. DPR-28: Amendment revised the License and Technical Specifications.

Date of initial notice in Federal Register: April 6, 2010 (75 FR 17444).

The Commission's related evaluation of this amendment is contained in a Safety Evaluation dated October 6, 2010.

No significant hazards consideration comments received: No.

Entergy Operations, Inc., Docket No. 50-382, Waterford Steam Electric Station, Unit 3, St. Charles Parish, Louisiana

Date of amendment request: February 24, 2010.

Brief description of amendment: The amendment deleted Operating License Condition 2.C.14, Fuel Movement in the Fuel Handling Building, due to the licensee's election to comply with 10 CFR 50.68, “Criticality accident requirements,” of Title 10 of the Code of Federal Regulations (10 CFR). License Condition 2.C.14, which essentially requires that no more than one fuel assembly shall be out of its shipping container or storage location at a given time, was one basis for the licensee's previous exemption from the criticality alarm system requirements of 10 CFR 70.24. The criticality accident requirements can be met either by complying with 10 CFR 70.24 or 10 CFR 50.68 requirements. The 10 CFR 50.68 criteria are now being used; therefore, License Condition 2.C.14 is no longer required.

Date of issuance: October 14, 2010.

Effective date: As of the date of issuance and shall be implemented 60 days from the date of issuance.

Amendment No.: 229.

Facility Operating License No. NPF-38: The amendment revised the Facility Operating License and Technical Specifications.

Date of initial notice in Federal Register: May 4, 2010 (75 FR 23813).

The Commission's related evaluation of the amendment is contained in a Safety Evaluation dated October 14, 2010.

No significant hazards consideration comments received: No.

Exelon Generating Company, LLC, Docket No. 50-219, Oyster Creek Nuclear Generating Station, Ocean County, New Jersey

Date of application for amendment: February 25, 2010, as supplemented by letters dated July 9, October 14, and October 15, 2010.

Brief description of amendment: The amendment revises the Technical Specifications to allow temporary changes to the Secondary Containment boundary during shutdown conditions. Specifically, the change allows the Reactor Building Secondary Containment boundary associated with the Trunnion Room to be relocated from the Trunnion Room outer wall and door to the Reactor Building inner walls and penetrations located inside the Trunnion Room.

Date of issuance: October 18, 2010.

Effective date: As of its date of issuance, and shall be implemented within 60 days.

Amendment No.: 277.

Renewed Facility Operating License No. DPR-16: The amendment revised the License and Technical Specifications

Date of initial notice in Federal Register: June 8, 2010 (75 FR 32513). The supplements dated July 9, October 14, and October 15, 2010, provided additional information that clarified the application, did not expand the scope of the application as originally noticed, and did not change the NRC staff's original proposed no significant hazards determination.

The Commission's related evaluation of the amendment is contained in a Safety Evaluation dated October 18, 2010.

No significant hazards consideration comments received: No.

PSEG Nuclear LLC, Docket No. 50-354, Hope Creek Generating Station, Salem County, New Jersey

Date of application for amendment: December 21, 2009, as supplemented by letters dated May 11, June 10, June 24, June 29, July 28, August 3, August 12, September 10, and September 17, 2010.

Brief description of amendment: The amendment allows the production of Cobalt-60 by irradiating Cobalt-59 targets located in modified fuel assemblies called Isotope Test Assemblies (ITAs). The amendment allows up to 12 ITAs to be loaded into the reactor core beginning with the fall 2010 refueling outage. The modified fuel assemblies are planned to be in operation as part of a pilot program. The purpose of the pilot program is to obtain data to verify that the modified fuel assemblies perform satisfactorily in service prior to use on a production basis. The Cobalt-60 is ultimately intended for use in the medical industry for use in cancer treatments, and blood and instrument sterilization; in the radiography and security industries for imaging; and in the food industry for cold pasteurization and irradiation sterilization.

Date of issuance: October 7, 2010.

Effective date: As of the date of issuance, to be implemented within 45 days.

Amendment No.: 184.

Facility Operating License No. NPF-57: The amendment revised the Technical Specifications and the License.

Date of initial notice in Federal Register: March 2, 2010 (75 FR 9445). The letters dated May 11, June 10, June 24, June 29, July 28, August 3, August 12, September 10, and September 17, 2010, provided clarifying information that did not change the initial proposed no significant hazards consideration determination or expand the application beyond the scope of the original Federal Register notice.

The Commission's related evaluation of the amendment is contained in a Safety Evaluation dated October 7, 2010.

No significant hazards consideration comments received: Yes.

PSEG Nuclear LLC, Docket No. 50-354, Hope Creek Generating Station, Salem County, New Jersey

Date of application for amendment: November 4, 2009.

Brief description of amendment: The amendment revises the Technical Specifications (TSs) to: (1) Delete TS 4.0.5, which pertains to surveillance requirements for inservice inspection (ISI) and inservice testing (IST) of American Society of Mechanical Engineers Boiler and Pressure Vessel Code Class 1, 2 and 3 components; (2) add a new TS for the IST Program to Section 6.0, “Administrative Controls,” of the TSs; (3) change TSs that currently reference TS 4.0.5 to reference the IST Program or ISI Program, as applicable; and (4) revise TS 6.10.3.h to reflect the deletion of the ISI Program from the TSs.

Date of issuance: October 19, 2010.

Effective date: As of the date of issuance, to be implemented within 60 days.

Amendment No.: 185.

Facility Operating License No. NPF-57: The amendment revised the TSs and the License.

Date of initial notice in Federal Register: January 26, 2010 (75 FR 4118).

The Commission's related evaluation of the amendment is contained in a Safety Evaluation dated October 19, 2010.

No significant hazards consideration comments received: No.

Southern California Edison Company, et al., Docket Nos. 50-361 and 50-362, San Onofre Nuclear Generating Station, Units 2 and 3, San Diego County, California

Date of application for amendment: August 16, 2010.

Brief description of amendment: The amendments revised Technical Specification 3.8.1, “AC [Alternating Current] Sources—Operating,” Condition A, to allow a one-time extension of the Completion Time (per train) to 10 days to restore an inoperable required offsite circuit.

Date of issuance: October 15, 2010.

Effective date: Upon issuance; to be implemented within 60 days of issuance.

Amendment No.: Unit 2-224; Unit 3-217.

Facility Operating License Nos. NPF-10 and NPF-15: The amendment revised the Operating Licenses and Technical Specifications.

Date of initial notice in Federal Register: September 7, 2010 (75 FR 54395).

No significant hazards consideration (NSHC) comments received: No.

The Commission's related evaluation of the amendments, state consultation, and final NSHC determination is contained in a Safety Evaluation dated October 15, 2010.

Attorney for licensee: Douglas K. Porter, Esquire, Southern California Edison Company, 2244 Walnut Grove Avenue, Rosemead, California 91770.

NRC Branch Chief: Michael T. Markley.

Virginia Electric and Power Company, et al., Docket Nos. 50-280 and 50-281, Surry Power Station, Units 1 and 2, Surry County, Virginia

Date of application for amendments: October 16, 2009, as supplemented by letter dated May 7, 2010.

Brief Description of amendments: These amendments revised the Technical Specifications (TSs) to:

(1) Implementation of WCAP-8745-P-A, “Design Bases for Thermal Overpower Delta-T and Thermal Overtemperature Delta-T Trip Function,”

(2) Implementation of NRC-approved Dominion Fleet Report DOM-NAF-2-A, “Reactor Core Thermal-Hydraulics Using the VIPRE-D Computer Code,”

(3) Implementation of a Statistical Design Limit for the analytic code and critical heat flux correlations that are being used in DOM-NAF-2-A, and

(4) Implementation of Dominion TR VEP-NE-2-A, “Statistical DNBR Evaluation Methodology.”

The requested change also affects the facility TSs. Items 1 and 2 in the above list are methodologies that are used in the determination of core operating limits; hence, items were put into the reference list contained in TS 6.2.C, “CORE OPERATING LIMITS REPORT.” Additional TS changes are being implemented to provide consistency with the Improved TS format in NURG-1431, Revision 3, “Standard Technical Specifications, Westinghouse Plants,” where practical, and to delete obsolete TS requirements.

Date of issuance: October 19, 2010.

Effective date: As of the date of issuance and shall be implemented within 60 days.

Amendment Nos.: 270 and 269.

Renewed Facility Operating License Nos. DPR-32 and DPR-37: Amendments changed the licenses and the technical specifications.

Date of initial notice in Federal Register: December 1, 2009 (74 FR 62838). The supplement provided clarifying information that did not change the scope of the original application and the initial proposed no significant hazards consideration determination.

The Commission's related evaluation of the amendments is contained in a Safety Evaluation dated October 19, 2010.

No significant hazards consideration comments received: No.

Dated at Rockville, Maryland, this 21st day of October 2010.
For the Nuclear Regulatory Commission.
Joseph G. Giitter,
Director, Division of Operating Reactor Licensing, Office of Nuclear Reactor Regulation.

[FR Doc. 2010-27416 Filed 11-1-10; 8:45 am]

BILLING CODE 7590-01-P